DEPARTMENT OF DEFENSE

Department of the Army; Corps of Engineers

Notice of Intent To Prepare a Draft Environmental Impact Statement (EIS), Initiate the Public Scoping Period and Host Public Scoping Meetings for the Great Lakes and Mississippi River Interbasin Study (“GLMRIS”)—Evaluation of Aquatic Nuisance Species Controls Near Brandon Road Lock and Dam

AGENCY: Department of the Army, U.S. Army Corps of Engineers, DoD.

ACTION: Notice of intent.

SUMMARY: The Chicago District, U.S. Army Corps of Engineers (USACE) announces its intent to (1) prepare a Draft EIS, (2) accept public comments and (3) host public scoping meetings in Lemont, Illinois at Argonne National Laboratories and Chicago, Illinois for GLMRIS—Evaluation of Aquatic Nuisance Species Controls near Brandon Road Lock and Dam (GLMRIS—Brandon Road).

In collaboration with other Federal, State, and local agencies as well as non-governmental entities, USACE is evaluating structural and nonstructural options and technologies near the Brandon Road Lock and Dam site. This effort is an interim response to the GLMRIS authority. The purpose of the GLMRIS—Brandon Road evaluation is to consider a control point to reduce the risk of upstream transfer of ANS, from the Mississippi River (MR) Basin into the Great Lakes (GL) Basin through the Chicago Area Waterway System (CAWS), to the maximum extent possible. The GLMRIS—Brandon Road effort will seek to minimize adverse impacts to waterway users or resources.

DATES: The NEPA scoping period ends on January 16, 2015. The GLMRIS—Brandon Road NEPA Public Scoping meetings are scheduled for December 6, 2014 in Lemont, Illinois at Argonne National Laboratories, and December 9, 2014 in Chicago, Illinois. Please refer to the “Scoping and Public Involvement” section below for information regarding the public scoping meeting and for instructions on how to submit public comments.

FOR FURTHER INFORMATION CONTACT: For further information and/or questions about GLMRIS, please contact USACE, Chicago District, Project Manager, Mr. David Wethington, by mail: USACE, Chicago District, 231 S. LaSalle, Suite 1500, Chicago, Illinois 60604, or by email: david.m.wethington@usace.army.mil.

For media inquiries, please contact USACE, Chicago District, Public Affairs Officer, Ms. Lynne Whelan, by mail: USACE, Chicago District, 231 S. LaSalle, Suite 1500, Chicago, Illinois 60604, by phone: 312.846.5330 or by email: lynne.e.whelan@usace.army.mil.

SUPPLEMENTARY INFORMATION:

1. Background. In January 2014, USACE released the GLMRIS Report, which evaluated the potential range of alternatives to control ANS transfer between the GL and MR basins via the CAWS. In GLMRIS, USACE has interpreted the term “prevent” to mean the reduction of risk to the maximum extent possible, because it may not be technologically feasible to achieve an absolute solution.

The GLMRIS Report identified eight alternatives, six of which were structural alternatives. Three structural alternatives established an ANS control point near Brandon Road Lock and Dam in Joliet, Illinois. The GLMRIS Report identified the Brandon Road control point as a single location that can address upstream transfer of MR ANS through the CAWS.

Based on evaluations presented in the GLMRIS Report and in response to stakeholder input, USACE has been directed by the Assistant Secretary of the Army (Civil Works) to proceed with a formal evaluation of potential ANS controls to be applied near the Brandon Road Lock and Dam, located near Joliet, Illinois. The GLMRIS—Brandon Road effort will evaluate the range of options or technologies available to prevent additional MR ANS transfer through the CAWS into the GL Basin.

This effort will assess the potential of various ANS controls to address the one-way, upstream transfer of ANS through the approach channel and/or lock chamber at Brandon Road Lock and Dam, and seek to minimize any adverse impacts to waterway users or resources.

The Brandon Road Lock and Dam Historic District includes the Brandon Road Lock and Dam and was retroactively listed on the National Register of Historic Places on March 11, 2004.

GLMRIS will be conducted in accordance with NEPA and with the Economic and Environmental Principles and Guidelines for Water and Related Land Resource Implementation Studies, Water Resources Council, March 10, 1983.

2. Scoping and Public Involvement. USACE will accept comments related to GLMRIS—Brandon Road until January 16, 2014.

All forms of comments received during the scoping period will be weighted equally. Using input obtained during the scoping period, USACE will refine the scope of GLMRIS to focus on significant issues, as well as eliminate issues that are not significant from further detailed study.

Comments may be submitted in the following ways:

• GLMRIS project Web site: Use the web comment function found at http://glmris.anl.gov/.

• NEPA Scoping Meeting: USACE is hosting scoping meetings and asks those who wish to make oral comments in person to register on the GLMRIS project Web site at http://glmris.anl.gov/. Each meeting's on-line registration to speak will be closed at 10 a.m. central time the day of the meeting. Those who do not register to speak via the GLMRIS Web site may register at the meeting. Those registering through the Web site may be given a preference over those that register to make an oral comment at the meeting. Each individual wishing to make oral comments shall be given three (3) minutes, and a stenographer will document oral comments;

• Mail: Mail written comments to GLMRIS—Brandon Road Scoping, 231 S. LaSalle, Suite 1500, Chicago, Illinois 60604. Comments must be postmarked by January 16, 2014; and

• Hand Delivery: Comments may be hand-delivered to the Chicago District, USACE office located at 231 S. LaSalle, Suite 1500, Chicago, Illinois 60604 between 8:00 a.m. and 4:30 p.m. Comments must be received by January 16, 2014.

The public meetings will begin with a brief presentation regarding the study followed by an oral comment period. During the meeting, USACE will also collect written comments.

The public meetings are scheduled for the following:

• 1:00 p.m. to 4:00 p.m. on Saturday, December 6, 2014, at Argonne National Laboratory's Theory and Computing Sciences Building, located at Theory and Computing Sciences Building, Building 240, Argonne National Laboratory, 9700 S. Cass Avenue, Argonne, Illinois 60439 (directions available on the GLMRIS project Web site), and

• 3:00 p.m. to 6:00 p.m. on Tuesday, December 9, 2014, at the Gleacher Center, located at 450 North Cityfront Plaza Drive, Chicago, Illinois 60611.

Please see the GLMRIS project Web site at http://glmris.anl.gov/ for directions, more information regarding the meeting and if you wish to make an oral comment.

Comments received during the scoping period will be posted on the GLMRIS project Web site and will become part of the EIS.

If you require assistance under the Americans with Disabilities Act, please contact Ms. Lynne Whelan via email at lynne.e.whelan@usace.army.mil or phone at (312) 846-5330 at least seven (7) working days prior to the meeting to request arrangements.

3. Significant Issues. Issues associated with the proposed study are likely to include, but will not be limited to impacts of ANS on current waterway uses and resources; impacts of potential ANS controls on current waterway uses and resources; and statutory and legal responsibilities relative to the lakes and waterways. Examples of waterway uses and resources that may be impacted by ANS include significant natural resources such as ecosystems and threatened and endangered species, commercial and recreational fisheries, and current recreational uses of the lakes and waterways. Examples of current waterway uses that may be impacted by potential ANS controls are commercial and recreational navigation, flood risk management and water supply and quality.

4. Availability of the Draft Environmental Impact Statement. Availability of the Draft EIS is contingent upon sufficient allocation of funding for the study. Draft EIS availability will be announced to the public in the Federal Register in compliance with 40 CFR 1506.9 and 1506.10.

5. Authority. This action is being undertaken pursuant to the Water Resources and Development Act of 2007, Section 3061, Pub. L. 110-114, 121 STAT. 1121, and the National Environmental Policy Act of 1969 (NEPA), 42 U.S.C. 4321, et seq., as amended.

Dated: November 14, 2014.
Susanne J. Davis, P.E.,
Chief, Planning Branch, Chicago District, Corps of Engineers.

[FR Doc. 2014-27531 Filed 11-19-14; 8:45 am]

BILLING CODE 3720-58-P